ENVIRONMENTAL PROTECTION AGENCY

[ER-FRL-6252-8]

Tampa Bay Water Regional Reservoir and Pipeline: Intent To Prepare an Environmental Impact Statement

AGENCY: U.S. Environmental Protection Agency (EPA).

ACTION: Notice of intent to prepare an Environmental Impact Statement (EIS) on the reservoir and pipeline to the Alafia River located in southeast Hillsborough County, Florida.

Purpose: Pursuant to 40 CFR 1501.7 and in accordance with Section 102(2)(c) of the National Environmental Policy Act (NEPA), the U.S. Environmental Protection Agency (EPA) has identified the need to prepare an environmental impact statement (EIS) and therefore issues this Notice of Intent pursuant to 40 CFR 1507.7.

FOR FURTHER INFORMATION AND TO BE PLACED ON THE MAILING LIST CONTACT: Ms. Lena Scott, Environmental Protection Agency—Region 4, Office of Environmental Assessment, 61 Forsyth Street, Atlanta, Georgia 30303, Telephone (404) 562-9607 of Fax (404) 563-9598.

SUMMARY: EPA intends to prepare the EIS to evaluate Tampa Bay Water's (Authority) proposal to construct and operate a 1,200-acre reservoir and pipeline located in southeast Hillsborough County, Florida. The proposed reservoir will provide storage during high flow periods for use as potable water when surface water is not available for withdrawals. An 84-inch, 8-mile long pipeline will connect the reservoir to the South Central Hillsborough Intertie near the Alafia River withdrawal location. EPA intends to retain the services of an independent contractor to prepare the EIS using the “third party method” as provided under 40 CFR Section 6.510(b)(3). By utilizing the third party method, EPA enters into an agreement for the Authority to engage and pay for the services of a contractor to prepare the EIS under the direction of EPA.

Need for Action: EPA awarded construction grants totaling $12,615,000 to Tampa Bay Water for the reservoir and pipeline. Based upon draft Environmental Information Documents (EID) submitted for the regional reservoir, EPA determined the EID did not adequately address potential impacts of the project and could not issue a Finding of No Significant Impact (FNSI). Known concerns include viable alternatives to the proposed action, impacts on protected wetlands, effects from inter-basin transfer of water, short-and long-term impacts on the Alafia River and Tampa Bay aquatic ecosystems from the incremental withdrawal of water resources attributable to reservoir operations, impacts on threatened and endangered species, impacts of salinity changes on aquatic organisms, sport and commercial fisheries.

Alternatives:

• EPA releases grant funds without conditions.

• EPA releases grant funds with conditions.

• EPA withholds grant funds exercising the “No Action” alternative.

Scoping:EPA will hold a public scoping meeting in which a general description of the projects and its goals will be presented. Time and meeting location will be announced in newspapers local to the project. Both oral and written comments will be accepted at the meeting to assist EPA to determine the scope of the EIS. Persons who do not attend the meeting and wish to comment on the issues are invited to respond in writing to this agency within 30 days of the scoping meeting.

Estimated Date of Release: August 30, 2001.

Responsible Official: A. Stanley Meiburg, Deputy Regional Administrator, Region 4, Environmental Protection Agency.

Richard E. Sanderson,
Director, Office of Federal Activities.

[FR Doc. 00-8671 Filed 4-7-00; 8:45 am]

BILLING CODE 6560-50-P